DEPARTMENT OF ENERGY

Federal Energy Regulatory Commission

Sunshine Act Meeting Notice

The following notice of meeting is published pursuant to section 3(a) of the government in the Sunshine Act (Pub. L. 94-409), 5 U.S.C. 552b:

AGENCY HOLDING MEETING: Federal Energy Regulatory Commission, DOE.

DATE AND TIME: January 17, 2013, 10:00 a.m.

PLACE: Room 2C, 888 First Street NE., Washington, DC 20426.

STATUS: Open.

MATTERS TO BE CONSIDERED: Agenda * Note—Items listed on the agenda may be deleted without further notice.

CONTACT PERSON FOR MORE INFORMATION: Kimberly D. Bose, Secretary, Telephone (202) 502-8400. For a recorded message listing items struck from or added to the meeting, call (202) 502-8627.

This is a list of matters to be considered by the Commission. It does not include a listing of all documents relevant to the items on the agenda. All public documents, however, may be viewed on line at the Commission's Web site at http://www.ferc.gov using the eLibrary link, or may be examined in the Commission's Public Reference Room.

989th—Meeting, Regular Meeting, January 17, 2013, 10:00 a.m.
Item No | Docket No. | Company
ADMINISTRATIVE
A-1 | AD02-1-000 | Agency Business Matters.
A-2 | AD02-7-000 | Customer Matters, Reliability, Security and Market Operations.
ELECTRIC
E-1 | RM13-2-000 | Small Generator Interconnection Agreements and Procedures.
E-2 | AD12-9-000 | Allocation of Capacity on New Merchant Transmission Projects and New Cost-Based, Participant-Funded Transmission Projects.
| AD11-11-000 | Priority Rights to New Participant-Funded Transmission.
E-3 | EL11-46-000 | NextEra Energy Resources, LLC; Peetz Logan Interconnect, LLC; and PWEC, LLC.
E-4 | OMITTED |
E-5 | ER11-2970-001 ER11-2970-002 | Peetz Logan Interconnect, LLC.
E-6 | EL12-11-000 | Rail Splitter Wind Farm, LLC v. Ameren Services Company and Midwest Independent Transmission System Operator, Inc.
E-7 | EL12-104-000 | Interstate Power and Light Company v. ITC Midwest, LLC.
E-8 | EL11-30-001 ER12-451-000 | E.ON Climate & Renewables North America, LLC v. Midwest Independent Transmission System Operator, Inc.
E-9 | OMITTED |
E-10 | EL13-17-000 | Blue Summit Wind, LLC.
E-11 | EL13-18-000 | Electric Transmission Texas, LLC
E-12 | EL12-7-000 | Hess Corporation v. PJM Interconnection, LLC.
E-13 | EL13-10-000 | North American Natural Resources, Inc. v. PJM Interconnection, L.L.C., American Electric Power Service Corp., and Indiana Michigan Power Co.
GAS
G-1 | RP12-514-000 | Tennessee Gas Pipeline Company, LLC.
HYDRO
H-1 | RM11-6-000 | Annual Charges for Use of Government Lands.
H-2 | P-14404-001 | Calleguas Municipal Water District.
CERTIFICATES
C-1 | OMITTED |
C-2 | CP12-498-000 | The Gas Company, LLC.

Issued January 10, 2013.
Kimberly D. Bose,
Secretary.

A free webcast of this event is available through www.ferc.gov. Anyone with Internet access who desires to view this event can do so by navigating to www.ferc.gov's Calendar of Events and locating this event in the Calendar. The event will contain a link to its webcast. The Capitol Connection provides technical support for the free webcasts. It also offers access to this event via television in the DC area and via phone bridge for a fee. If you have any questions, visit www.CapitolConnection.org or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. 2013-00742 Filed 1-11-13; 11:15 am]

BILLING CODE 6717-01-P